DEPARTMENT OF THE INTERIOR

Fish and Wildlife Service

Approved Recovery Plan for the Lake Erie Water Snake (Nerodia sipedon insularum)

AGENCY: Fish and Wildlife Service, Interior.

ACTION: Notice of document availability.

SUMMARY: The U.S. Fish and Wildlife Service (Service) announces the availability of the approved recovery plan for the Lake Erie water snake (Nerodia sipedon insularum). This species is federally listed as threatened under the Endangered Species Act of 1973 (Act), as amended (16 U.S.C. 1531 et seq.), on the offshore islands and in the waters of the western Lake Erie basin of Ohio. Actions needed for recovery of the Lake Erie water snake include monitoring the population, protecting and managing habitat on both public and private land, administering public outreach to address intentional and accidental human-induced mortality, and collecting important ecological data on the snake and its habitat.

ADDRESSES: This recovery plan is available from the following addresses:

1. Fish and Wildlife Reference Service, 5430 Grosvenor Lane, Suite 110, Bethesda, Maryland 20814 (the fee for the plan varies depending on the number of pages).

2. Field Supervisor, U.S. Fish and Wildlife Service, Reynoldsburg Ecological Services Field Office, 6950 Americana Parkway, Suite H, Reynoldsburg, Ohio 43068-4127.

3. The World Wide Web at: http://endangered.fws.gov/recovery/index.html#plans

FOR FURTHER INFORMATION CONTACT: Ms. Megan Seymour, Reynoldsburg Ecological Services Field Office, (see ADDRESSES section No. 2 above), telephone (614) 469-6923 ext.16. The Fish and Wildlife Reference Service may be reached at (301) 492-6403 or (800) 582-3421. TTY users may contact Ms. Seymour and the Fish and Wildlife Reference Service through the Federal Relay Service at (800) 877-8339.

SUPPLEMENTARY INFORMATION:

Background

Recovery of endangered or threatened animals or plants is a primary goal of the Service's endangered species program. A species is considered recovered when threats to the species are removed so that populations of the species are self-sustaining. Recovery plans describe actions considered necessary for the conservation of the species, establish criteria for delisting species, and provide estimates of the time and cost for implementing the measures needed for recovery.

The Act requires the development of recovery plans for listed species unless such a plan would not promote the conservation of a particular species. Section 4(f) of the Act, as amended in 1988, requires that public notice and the opportunity for public review and comment be provided during recovery plan development. Information presented during the comment period has been considered in the preparation of the approved recovery plan and is summarized in an appendix to the recovery plan. We will forward substantive comments regarding recovery plan implementation to appropriate Federal agencies and other entities so that they can take these comments into account during the course of implementing recovery actions.

Lake Erie water snakes on the offshore islands and surrounding waters of Lake Erie were listed as threatened on August 30, 1999, under the Act. Water snakes found on the near-shore Ohio islands and Ohio mainland are not protected by the threatened designation due to the likelihood that these snakes represent intergrades between the Lake Erie water snake and northern water snake. The Lake Erie water snake spends summers basking on the rocky shorelines of the limestone and dolomite islands in the western Lake Erie basin. Hibernation habitat for the snake is comprised of areas inland from the shore that typically have soil and rock substrates and consist of natural openings or fissures. Human-made structures such as crib docks and erosion control protection can provide suitable summer habitat, whereas old building foundations and drainage tiles may provide suitable hibernation habitat. The primary threats to the snake include both accidental and intentional human-induced mortality and loss of suitable summer and hibernation habitat through development. There are nine U.S. islands and seven Canadian islands that currently provide year-round habitat for the snake, whereas two U.S. islands only provide summer habitat. The Lake Erie water snake has been extirpated from one U.S. island and two Canadian islands.

Recovery will be achieved and the species removed from the list of Threatened and Endangered Wildlife (50 CFR part 17) when the following criteria are met: (1) A minimum of 5,555 adult snakes exist on 9 U. S. islands combined for 6 or more consecutive years, including at least 900 snakes on Kelleys Island, 850 snakes on South Bass Island, 620 snakes on Middle Bass Island, and 410 snakes on North Bass Island, with the remaining snakes occurring on any of the islands; (2) a total of 7.4 km of shoreline habitat and 51 hectares of hibernation habitat distributed proportionately among the 4 largest U. S. islands are protected in perpetuity by a written agreement approved by the Service; and (3) an objective analysis of public attitude indicates that human persecution is no longer a threat to the continued existence of the snake, and accidental human-induced mortality no longer poses a significant threat to the population.

Authority: The authority for this action is section 4(f) of the Endangered Species Act, 16 U.S.C. 1533(f).

Dated: August 28, 2003.
Charles M. Wooley,
Assistant Regional Director, Ecological Services, Region 3, Fort Snelling, Minnesota.

[FR Doc. 03-24281 Filed 9-24-03; 8:45 am]

BILLING CODE 4310-55-P